DEPARTMENT OF HEALTH AND HUMAN SERVICES

National Institutes of Health

Prospective Grant of an Exclusive Patent License: P2Y14 Receptor Antagonists To Treat Kidney and Lung Inflammation

AGENCY: National Institutes of Health, HHS.

ACTION: Notice.

SUMMARY: National Institute of Diabetes and Digestive and Kidney Diseases, an institute of the National Institutes of Health, Department of Health and Human Services, is contemplating the grant of an Exclusive Patent License to practice the inventions embodied in the Patents and Patent Applications listed in the SUPPLEMENTARY INFORMATION section of this notice to Kantum Pharma Inc. (Kantum), located in Boston, Massachussets.

DATES: Only written comments and/or applications for a license which are received by the National Institute of Diabetes and Digestive and Kidney Diseases' Technology Advancement Office on or before June 8, 2021 will be considered.

ADDRESSES: Requests for copies of the patent application, inquiries, and comments relating to the contemplated Exclusive Patent License should be directed to: Betty B. Tong, Ph.D., Senior Licensing and Patenting Manager, NIDDK Technology Advancement Office, Telephone: 301-451-7836; Email: tongb@mail.nih.gov.

SUPPLEMENTARY INFORMATION:

Intellectual Property

1. HHS Ref. No.: E-213-2015-0; Entitled: Triazole Derivatives as P2Y14 Receptor Antagonists; Inventors: Kenneth Jacobson, Ph.D. et al

(i) U.S. Patent No. 10,683,277; HHS Ref. No.: E-213-2015-0-US-05; Issue Date: June 16, 2020

(ii) EP Patent Application 16774825.0; HHS Ref. No.: E-213-2015-0-EP-04; Filing Date: April 19, 2018

(iii) Chinese Patent No. ZL 201680064441.5; HHS Ref. No.: E-213-2015-0-CN-03; Issue Date: March 19, 2021

2. HHS Reference No. E-028-2018-1; Entitled: P2Y14 Receptor Antagonists Containing a Biaryl Core; Inventors: Kenneth Jacobson, Ph.D. et al

(i) Australian Patent Application 2019218256; HHS Ref. No.: E-028-2018-1-AU-02; Filing Date: July 28, 2020

(ii) Canadian Patent Application 3,090,788; HHS Ref. No.: E-028-2018-1-CA-03; Filing Date: August 7, 2020

(iii) Chinese Patent Application 201980012696.0; HHS Ref. No.: E-028-2018-1-CN-04; Filing Date: August 10, 2020

(iv) EP Patent Application 19707559.1; HHS Ref. No.: E-028-2018-1-EP-05; Filing Date: July 20, 2020

(v) Japanese Patent Application 2020-542580; HHS Ref. No.: E-028-2018-1-JP-06; Filing Date: August 6, 2020

(vi) U.S. Patent Application 16/967,177; HHS Ref. No.: E-028-2018-1-US-07; Filing Date: August 4, 2020

3. HHS Reference No. E-051-2021-0; Entitled: Heterocyclic P2Y14 Receptor Antagonists; Inventors: Kenneth Jacobson, Ph.D. et al

(i) U.S. Provisional Patent Application No.: 62/643,015; HHS Ref. No.: E-051-2021-0-US-01; Filing Date: January 18, 2021

The patent rights in these inventions have been assigned to the government of the United States of America.

The prospective exclusive license' territory may be worldwide and the field of use may be limited to “Commercial development of P2Y14 receptor antagonists for the prevention and treatment of conditions or diseases associated with inflammation in the kidney and lung in humans, as claimed in the Licensed Patent Rights”.

The inventions pertain to the composition and use of selective antagonists for the P2Y14 receptor, a purinergic G protein-coupled receptor that is activated by extracellular UDP-glucose and related nucleotides. These P2Y14R antagonists can be developed as potential drug for the treatment of inflammation and other disorders associated with P2Y14R regulated functions.

This notice is made in accordance with 35 U.S.C. 209 and 37 CFR part 404. The prospective exclusive license will be royalty bearing, and the prospective exclusive license may be granted unless within fifteen (15) days from the date of this published notice, the National Institute of Diabetes and Digestive and Kidney Diseases receives written evidence and argument that establishes that the grant of the license would not be consistent with the requirements of 35 U.S.C. 209 and 37 CFR part 404.

In response to this Notice, the public may file comments or objections. Comments and objections, other than those in the form of a license application, will not be treated confidentially, and may be made publicly available. License applications submitted in response to this Notice will be presumed to contain business confidential information and any release of information in these license applications will be made only as required and upon a request under the Freedom of Information Act, 5 U.S.C. 552.

Dated: May 5, 2021.
Charles D. Niebylski,
Director, Technology Advancement Office, National Institute of Diabetes and Digestive and Kidney Diseases.

[FR Doc. 2021-10816 Filed 5-21-21; 8:45 am]

BILLING CODE 4140-01-P